DEPARTMENT OF TRANSPORTATION

Federal Aviation Administration

14 CFR Part 71

[Docket No. FAA-2021-0941; Airspace Docket No. 21-ASO-31]

RIN 2120-AA66

Proposed Amendment of Class D, Class E, and Establishment of Class E Airspace; Atlanta, GA Area

AGENCY: Federal Aviation Administration (FAA), DOT.

ACTION: Notice of proposed rulemaking (NPRM).

SUMMARY: This action proposes to amend Class D airspace, Class E surface airspace, Class E airspace extending upward from 700 feet above the surface, and establish Class E Airspace Designated as an Extension to a Class D Surface Area in the Atlanta, GA area. This action would replace the Atlanta VORTAC (Very High Frequency Omnidirectional Range Collocated Tactical Air Navigation) with the term Point of Origin. This action would update several airport names and geographic coordinates. This action would also make an editorial change replacing the term Airport/Facility Directory with the term Chart Supplement in the legal descriptions of associated Class D and E airspace. Controlled airspace is necessary for the safety and management of instrument flight rules (IFR) operations in the area.

DATES: Comments must be received on or before January 31, 2022.

ADDRESSES: Send comments on this proposal to: The U.S. Department of Transportation, Docket Operations, 1200 New Jersey Avenue SE, West Building Ground Floor, Room W12-140, Washington, DC 20590-0001; Telephone: (800) 647-5527, or (202) 366-9826. You must identify the Docket No. FAA-2021-0941; Airspace Docket No. 21-ASO-31 at the beginning of your comments. You may also submit comments through the internet at https://www.regulations.gov.

FAA Order JO 7400.11F, Airspace Designations and Reporting Points, and subsequent amendments can be viewed online at https://www.faa.gov/air_traffic/publications/. For further information, you can contact the Airspace Policy Group, Federal Aviation Administration, 800 Independence Avenue SW, Washington, DC 20591; Telephone: (202) 267-8783. FAA Order JO 7400.11F is also available for inspection at the National Archives and Records Administration (NARA). For information on the availability of FAA Order JO 7400.11F at NARA, email fr.inspection@nara.gov or go to https://www.archives.gov/federal-register/cfr/ibr-locations.html.

FOR FURTHER INFORMATION CONTACT: John Goodson, Operations Support Group, Eastern Service Center, Federal Aviation Administration, 1701 Columbia Avenue, College Park, GA 30337; Telephone (404) 305-5966.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it would amend airspace in the Atlanta, GA area to support IFR operations in the area.

Comments Invited

Interested persons are invited to comment on this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (Docket No. FAA-2021-0941 and Airspace Docket No. 21-ASO-31) and be submitted in triplicate to DOT Docket Operations (see ADDRESSES section for the address and phone number). You may also submit comments through the internet at https://www.regulations.gov.

Persons wishing the FAA to acknowledge receipt of their comments on this action must submit with those comments a self-addressed stamped postcard on which the following statement is made: “Comments to FAA Docket No. FAA-2021-0941; Airspace Docket No. 21-ASO-31.” The postcard will be date/time stamped and returned to the commenter.

All communications received before the specified closing date for comments will be considered before taking action on the proposed rule. The proposal contained in this document may be changed in light of the comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see the ADDRESSES section for address and phone number) between 9:00 a.m. and 5:00 p.m., Monday through Friday, except federal holidays. An informal docket may also be examined between 8:00 a.m. and 4:30 p.m., Monday through Friday, except federal holidays, at the office of the Eastern Service Center, Federal Aviation Administration, Room 350, 1701 Columbia Avenue, College Park, GA 30337.

Availability and Summary of Documents for Incorporation by Reference

This document proposes to amend FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Proposal

The FAA proposes an amendment to 14 CFR part 71 to amend Class D airspace, Class E surface airspace, and Class E airspace extending upward from 700 feet above the surface, and establish Class E Airspace Designated as an Extension to Class D airspace at the following airports:

The Dekalb-Peachtree Airport Class D airspace would be amended by removing unnecessary verbiage from the descriptor header, updating the geographical coordinates of the airport to coincide with the FAA's database, and replacing the outdated term Airport/Facility Directory with the term Chart Supplement in the airport description;

The Fulton County Executive Airport/Charlie Brown Field (formerly Atlanta, Fulton County Airport-Brown Field) Class D airspace would be amended by removing unnecessary verbiage from the descriptor header and updating the airport's name. Dobbins ARB Class D airspace would be amended by updating the geographical coordinates of the ARB to coincide with the FAA's database;

The Cobb County International Airport-McCollum Field (formerly Cobb County-McCollum Field) Class D airspace would be amended by removing unnecessary verbiage from the descriptor header, updating the airport's name, and updating the geographical coordinates of the airport to coincide with the FAA's database. Dobbins ARB (formerly Dobbins ARB/NAS Atlanta) Class D airspace would be amended by updating the ARB's name and updating the geographical coordinates of the ARB to coincide with the FAA's database. This action would also replace the outdated term Airport/Facility Directory with the term Chart Supplement in the airport description;

The Dobbins ARB (formerly Dobbins ARB/NAS Atlanta) Class D airspace would be amended by removing unnecessary verbiage from the descriptor header, updating the ARB's name, and updating the geographical coordinates of the ARB to coincide with the FAA's database. Cobb County International Airport-McCollum Field (formerly Cobb County-McCollum Field) Class D airspace would be amended by updating the airport's name and updating the geographical coordinates of the airport to coincide with the FAA's database. Fulton County Executive Airport/Charlie Brown Field (formerly Atlanta, Fulton County Airport-Brown Field) Class D airspace would be amended by updating the airport's name. This action would also replace the outdated term Airport/Facility Directory with the term Chart Supplement in the airport description;

The Dekalb-Peachtree Airport Class E surface airspace would be amended by removing unnecessary verbiage from the descriptor header, updating the geographical coordinates of the airport to coincide with the FAA's database, and removing unnecessary verbiage in the description;

The Dekalb-Peachtree Airport Class E Airspace Designated as an Extension to a Class D Surface Area would be established by adding that airspace extending upward from the surface within 1 mile each side of the Dekalb-Peachtree Airport 206° and 021° bearings from the airport, extending from the 4-mile radius of Dekalb-Peachtree Airport to 7.7 miles southwest and northeast of the airport;

The Fulton County Executive Airport/Charlie Brown Field Class E Airspace Designated as an Extension to a Class D Surface Area would be established by adding that airspace extending upward from the surface within 1 mile each side of the Fulton County Executive Airport/Charlie Brown Field 260° and 080° bearings from the airport, extending from the 4-mile radius of Fulton County Executive Airport/Charlie Brown Field to 7.2 miles west and east of the airport.

The Cobb County International Airport-McCollum Field Class E Airspace Designated as an Extension to a Class D Surface Area would be established by adding that airspace extending upward from the surface from the 4-mile radius of the Cobb County International Airport-McCollum Field to the 8.4-mile radius of the airport; clockwise from the 255° bearing to the 303° bearing from the airport and within 1 mile each side of the Cobb County International Airport-McCollum Field 089° bearing extending from the 4-mile radius to 8.4 miles east of the airport excluding that portion within the Dobbins ARB, Class D airspace area.

The Atlanta, GA Class E airspace extending upward from 700 feet above the surface would be amended by updating the name of Hartsfield-Jackson Atlanta International Airport (formerly Atlanta, The William B. Hartsfield Atlanta International Airport) and updating the geographical coordinates of the airport to coincide with the FAA's database. Dobbins ARB Class E airspace extending upward from 700 feet above the surface would be amended by updating the ARB's name (formerly Dobbins AFB) and updating the geographical coordinates of the airport to coincide with the FAA's database. Fulton County Executive Airport/Charlie Brown Field Class E airspace extending upward from 700 feet above the surface would be amended by updating the airport's name (formerly Fulton County Airport-Brown Field) and increasing the radius to 9.7 miles (formerly 5 miles). Cobb County International Airport-McCollum Field Class E airspace extending upward from 700 feet above the surface would be amended by updating the airport's name (formerly Cobb Co-McCollum Field), updating the geographical coordinates of the airport to coincide with the FAA's database, and increasing the radius to 10.9 miles (formerly 7 miles). Dekalb-Peachtree Airport Class E airspace extending upward from 700 feet above the surface would be amended by updating the geographical coordinates of the airport to coincide with the FAA's database and increasing the radius to 10.2 miles (formerly 7 miles). The Atlanta VORTAC would be replaced by the term Point of Origin and the geographical coordinates would be updated to coincide with the FAA's database.

Controlled airspace is necessary for the safety and management of instrument flight rules (IFR) operations in the area.

Class D and Class E airspace designations are published in Paragraphs 5000, 6002, 6004, and 6005, respectively, of FAA Order JO 7400.11F, dated August 10, 2021, and effective September 15, 2021, which is incorporated by reference in 14 CFR 71.1. The Class D and Class E airspace designations listed in this document would be published subsequently in FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures”, prior to any FAA final regulatory action.

Lists of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of Federal Aviation Administration Order 7400.11F, Airspace Designations and Reporting Points, dated August 10, 2021, and effective September 15, 2021, is amended as follows:

Paragraph 5000 Class D Airspace.

* * * * *

ASO GA D Atlanta, GA [Amended]

DeKalb-Peachtree Airport, GA

(Lat. 33°52′34″ N, long. 84°18′07″ W)

That airspace extending upward from the surface to and including 3,500 feet MSL within a 4-mile radius of DeKalb-Peachtree Airport. This Class D airspace area is effective during the specific dates and times established in advance by a Notice to Airmen. The effective date and time will thereafter be continuously published in the Chart Supplement.

ASO GA D Atlanta, GA [Amended]

Fulton County Executive Airport/Charlie Brown Field, GA

(Lat. 33°46′45″ N, long. 84°31′17″ W)

Dobbins ARB

(Lat. 33°54′52″ N, long. 84°30′51″ W)

That airspace extending upward from the surface to and including 3,300 feet MSL within a 4-mile radius of Fulton County Executive Airport/Charlie Brown Field; excluding the portion north of a line connecting the 2 points of intersection with a 5.5-mile radius circle centered on Dobbins ARB.

ASO GA D Marietta, GA [Amended]

Cobb County International Airport-McCollum Field, GA

(Lat. 34°00′47″ N, long. 84°35′49″ W)

Dobbins ARB

(Lat. 33°54′52″ N, long. 84°30′51″ W)

That airspace extending upward from the surface to and including 3,500 feet MSL within a 4-mile radius of Cobb County International Airport-McCollum Field, GA, excluding that airspace southeast of a line connecting the 2 points of intersection with a 5.5-mile radius centered on Dobbins ARB. This Class D airspace area is effective during the specific dates and times established in advance by a Notice to Airmen. The effective date and time will thereafter be continuously published in the Chart Supplement.

ASO GA D Marietta, GA [Amended]

Dobbins ARB, GA

(Lat. 33°54′52″ N, long. 84°30′51″ W)

Cobb County International Airport-McCollum Field

(Lat. 34°00′47″ N, long. 84°35′49″ W)

Fulton County Executive Airport/Charlie Brown Field

(Lat. 33°46′45″ N, long. 84°31′17″ W)

That airspace extending upward from the surface to and including 3,600 feet MSL within a 5.5-mile radius of Dobbins ARB and within 1.7 miles each side of the 289° bearing and the 109° bearing from the Dobbins ARB, extending from the 5.5-mile radius to 6.9 miles east and west of the airport; excluding that airspace northwest of a line connecting the 2 points of intersection with a 4-mile radius centered on Cobb County International Airport-McCollum Field, and the 5.5-mile radius of Dobbins ARB, and also excluding that airspace south of a line connecting the 2 points of intersection with the 4-mile radius centered on Fulton County Executive Airport/Charlie Brown Field. This Class D airspace area is effective during the specific dates and times established in advance by a Notice to Airmen. The effective date and time will thereafter be continuously published in the Chart Supplement.

Paragraph 6002 Class E Surface Airspace.

* * * * *

ASO GA E2 Atlanta [Amended]

Dekalb-Peachtree Airport, GA

(Lat. 33°52′34″ N, long. 84°18′07″ W)

That airspace within a 4-mile radius of the Dekalb-Peachtree Airport.

Paragraph 6004 Class E Airspace Designated as an Extension to Class D.

* * * * *

ASO GA E4 Atlanta [New]

Dekalb-Peachtree Airport, GA

(Lat. 33°52′34″ N, long. 84°18′07″ W)

That airspace extending upward from the surface within 1 mile each side of the Dekalb-Peachtree Airport 206° and 021° bearings from the airport, extending from the 4-mile radius of Dekalb-Peachtree Airport to 7.7 miles southwest and northeast of the airport.

ASO GA E4 Atlanta, GA [New]

Fulton County Executive Airport/Charlie Brown Field, GA

(Lat. 33°46′45″ N, long. 84°31′17″ W)

That airspace extending upward from the surface within 1 mile each side of the Fulton County Executive Airport/Charlie Brown Field 260° and 080° bearings from the airport, extending from the 4-mile radius of Fulton County Executive Airport/Charlie Brown Field to 7.2 miles west and east of the airport.

ASO GA E4 Marietta, GA [New]

Cobb County International Airport-McCollum Field, GA

(Lat. 34°00′47″ N, long. 84°35′49″ W)

That airspace extending upward from the surface from the 4-mile radius of the Cobb County International Airport-McCollum Field to the 8.4-mile radius of the airport; clockwise from the 255° bearing to the 303° bearing from the airport and within 1 mile each side of the Cobb County International Airport-McCollum Field 089° bearing extending from the 4-mile radius to 8.4 miles east of the airport excluding that portion within the Dobbins ARB, GA Class D airspace area.

Paragraph 6005 Class E Airspace Areas Extending Upward From 700 Feet or More Above the Surface of the Earth.

* * * * *

ASO GA E5 Atlanta, GA [Amended]

Hartsfield-Jackson Atlanta International Airport, GA

(Lat. 33°38′12″ N, long. 84°25′40″ W)

Dobbins ARB

(Lat. 33°54′52″ N, long. 84°30′51″ W)

Fulton County Executive Airport/Charlie Brown Field

(Lat. 33°46′45″ N, long. 84°31′17″ W)

Cobb County International Airport-McCollum Field

(Lat. 34°00′47″ N, long. 84°35′49″ W)

Dekalb-Peachtree Airport

(Lat. 33°52′34″ N, long. 84°18′07″ W)

Point of Origin

(Lat. 33°37′45″ N, long. 84°26′06″ W)

That airspace extending upward from 700 feet above the surface within a 12-mile radius of the Point of Origin and within a 9.7-mile radius of Fulton County Executive Airport/Charlie Brown Field and within an 8-mile radius of Dobbins ARB and within a 10.9-mile radius of Cobb County International Airport-McCollum Field, and within a 10.2-mile radius of Dekalb-Peachtree Airport.

Issued in College Park, Georgia, on December 10, 2021.
Andreese C. Davis,
Manager, Airspace & Procedures Team South, Eastern Service Center, Air Traffic Organization.

[FR Doc. 2021-27210 Filed 12-16-21; 8:45 am]

BILLING CODE 4910-13-P